DEPARTMENT OF HOUSING AND URBAN DEVELOPMENT

[Docket No. FR-5207-N-01]

Notice of Fiscal Year (FY) 2008 Opportunity To Register Early and Other Important Information for Electronic Application Submission Via Grants.gov

AGENCY: Office of Assistant Secretary for Administration, HUD.

ACTION: Notice.

SUMMARY: This notice provides instructions to potential applicants applying for funding under HUD's grant programs available through Grants.gov. This notice does not pertain to applicants who will be applying in Fiscal Year (FY) 2008 for Continuum of Care funds. HUD will publish a separate notice to address the receipt of Continuum of Care applications in FY2008. This notice provides information to help applicants better understand the registration and electronic submission process for HUD applications made available through Grants.gov. Grants.gov is the federal portal for applicants to electronically find and apply for over 1,000 funding opportunities made available by 26 Federal grant-making agencies. Grants.gov offers the applicant community a common Web site where applicants can apply for a variety of federal assistance programs. To date, all 26 Federal grant-making agencies have posted their funding opportunities and electronic application packages to Grants.gov.

HUD believes that by facilitating a better understanding of the electronic submission process, applicants will be able to more easily make the transition to electronic application submission. HUD advises potential applicants to carefully read this notice and immediately begin the registration process or renew their registration from prior years.

To apply on-line electronically, Grants.gov requires an electronically authorized signature, known as e-Authentication. This requirement for an authenticated electronic signature serves to protect the applicant and the applicant's information, and to assure federal agencies that they are interacting with officials authorized to submit applications on behalf of applicant entities.

Through this notice, HUD is encouraging applicants to complete or update their registration, in advance of HUD posting its FY2008 grant opportunities. HUD found that issuing an Early Registration Notice eliminates many last minute registration issues, and allows applicants time to ensure that all steps in the registration process have been completed. This Notice also provides time for applicants to have their questions addressed regarding the registration and submission processes. HUD strongly encourages prospective applicants for FY2008 HUD grants to register or update/renew their registration for application submission via Grants.gov as soon as possible by following the instructions in this notice. HUD anticipates that it will post its funding opportunities in the Spring of 2008.

FOR FURTHER INFORMATION CONTACT: The Office of Departmental Grants Management and Oversight, Office of Administration, Department of Housing and Urban Development, 451 Seventh Street, SW., Room 3156, Washington, DC 20410-5000; telephone number (202) 708-0667. Persons with hearing or speech impairments may access this number via TTY by calling the Federal Information Relay Service at (800) 877-8339.

Full Text of Announcement

This notice is divided into two sections. Section I describes the registration process including steps to renew/update an existing registration. Section II provides guidance to applicants trying to submit an application and that are experiencing upload or transmission issues. HUD continues to require applicants submit their applications electronically via Grants.gov.

In FY 2007, over 99.5 percent of applicants successfully submitted applications electronically for HUD's grant programs via grants.gov. Less than one-half of one percent of applicants experienced registration or submission issues. While these numbers are relatively small, HUD strives to assist all applicants gain a better understanding of the electronic submission process. This notice serves to strongly encourage applicants to submit their applications in advance of the deadline date and when the Grants.gov help desk is open so if any issue arises, there is sufficient time to provide timely assistance.

In FY 2008 HUD will be using Adobe forms in the application packages. The Adobe forms are compatible with the Vista operating system, Microsoft Office 2007 and Apple Macintosh computers. To use the Adobe forms, applicants must download the free Adobe Reader 8.1.2 or the latest Adobe Reader version available from Grants.gov. For information on compatibility or to download the Adobe Reader, go to the Grants.gov Web site at http://www.grants.gov/help/download_software.jsp.

Section II of this notice provides information regarding how to download the application package and the application instructions package from Grants.gov. Applicants do not need to be registered with Grants.gov to download an application or the instructions, but all the steps in the registration process must be complete to successfully submit an application for funding consideration via Grants.gov. Applicants should carefully read the instructions before completing the application. The instructions download will contain the General Section and the Program Section. Together, these documents provide details of what will be required in your application submission as well at what rules and requirements you will be expected to comply with if you get awarded funds. The General Section explains the switch to Adobe forms and changes that were made to the 2008 General Section and Program Sections. The instructions download also contain any additional forms that are not part of the application package but are required to have a complete application.

I. Completing the Registration Process for New Applicants or Updating a Registration for Applicants That Are Currently Registered

A. The Need To Register With Grants.gov.

HUD provides funding only to organizations. This information, therefore, is directed to HUD applicants that are organizational entities.

Before an applicant can apply for a grant opportunity, the applicant must first register with Grants.gov to provide and obtain certain identifying information. Please note that registration is a multi-step process. The registration process also requires the applicant to provide information at Web sites other than Grants.gov. Registration protects both HUD and the applicant. Specifically, registration confirms that the applicant has designated a certain individual or entity to submit an application on its behalf and assures the HUD that it is interacting with a designated representative of the applicant who has been authorized to submit the application.

B. Steps To Register

HUD's NOFA process requires applicants to submit applications electronically through Grants.gov. Before being able to do so, applicants must complete several important steps to register or update/renew their registration as submitters. The registration process can take approximately 2 to 4 weeks to complete.

1. Step One: Obtain a Dun and Bradstreet Data Universal Numbering System (DUNS). Step One of the registration process requires an applicant to obtain a DUNS number for the organizational entity for which it will be submitting the application. All organizations seeking funding directly from HUD must have a DUNS number and include the number on the form SF-424, Application for Federal Financial Assistance, which is part of the application package. The DUNS number is also a required as part of the registration process. If your organizational entity already has a DUNS number, it may use that number provided it is registered with Dun and Bradstreet (D&B) as required by this notice. Failure to provide a DUNS number will prevent you from obtaining an award, regardless of whether it is a new award or renewal of an existing one. This policy is pursuant to OMB policy issued in the Federal Register on June 27, 2003 (68 FR 38402). HUD codified the DUNS number requirement on November 9, 2004 (69 FR 65024). A copy of the OMB Federal Register notice and HUD's regulation codifying the DUNS number requirement can be found at www.hud.gov/offices/adm/grants/duns.cfm. Applicants cannot submit an application without a DUNS number.

Applicants must note that applicant information entered and used to obtain the DUNS number will be used to pre-populate the Central Contractor Registration (CCR), which is Step Two of the registration process. Applicants should, therefore, carefully review information entered when obtaining a DUNS number. When registering with D&B, please be sure to use the organizational entity's legal name used when filing a return or making a payment to the Internal Revenue Service (IRS). Organizations should also provide the zip code using the zip code plus four code (Zip+4).

Applicants can obtain a DUNS number by calling (866) 705-5711 (this is a toll-free number). The approximate time to get a DUNS number is 10 to 15 minutes, and there is no charge. After obtaining your DUNS number, applicants should wait 24 to 48 hours to register with the CCR so that its DUNS number has time to become activated in the D&B records database.

2. Step Two: Register with the CCR. The second step of the registration process is registering with the CCR. The CCR is the primary vendor database for the Federal Government. An organization planning to submit a grant application must register or annually update or renew its registration with CCR to establish roles and IDs for representatives that will use Grants.gov to submit electronic grant applications. If you need assistance with the CCR registration process, you can contact the CCR Assistance Center, 24 hours a day, 7 days a week at (888) 277-2423 or (269) 961-5757. Applicants can also obtain assistance online at www.ccr.gov. A CCR Handbook that guides applicants through the registration process is available on the CCR Web site by clicking on “Help.” If you fail to update/renew your CCR registration, your Grants.gov registration will lapse and you will not be able to submit an application for funding. Registration, including update/renewal can take several weeks as CCR compares its records to those maintained by D&B and IRS. If discrepancies arise, Step Two cannot be completed until the discrepancies are resolved. For this reason, HUD urges applicants to complete the CCR registration, or update/renew its existing registration, immediately. Otherwise, the CCR check with D&B and IRS records may delay your completing the registration process and adversely affect your ability to submit your grant application.

The CCR registration process consists of completing a Trading Partner Profile (TTP), which contains general, corporate, and financial information about your organization. When completing the TTP, you will be required to identify an eBusiness Point of Contact (eBusiness POC), responsible for maintaining the information in the TTP and granting authorization to individuals to serve as Authorized Organization Representatives (AORs). An AOR is the individual who will submit the application through Grants.gov for the applicant organization. Applicants can check the CCR registration and eBusiness POC by going to http://www.ccr.gov and searching by clicking on “Search CCR.”

a. CCR Use of D&B Information. In July 2006, CCR implemented a policy change. Under this policy change, instead of obtaining name and address information directly from the registrant, CCR obtains the following data fields from D&B: Legal Business Name; Doing Business as Name (DBA); Physical Address; and Postal Code (Zip+4). Registrants will not be able to enter or modify these fields in CCR as they will be pre-populated using previously registered Dun and Bradstreet Data Universal Numbering System (DUNS) records data. During a new registration, or when updating a record, the registrant has a choice to accept or reject the information provided from the D&B records. If the registrant agrees with the D&B supplied information, the D&B data will be accepted into the CCR registrant record. If the registrant disagrees with the D&B supplied data, the registrant must go to the D&B Web site at http://fedgov.dnb.com/webform to modify the information contained in D&B's records before proceeding with its CCR registration. Once D&B confirms the updated information, the registrant must revisit the CCR Web site and “accept” D&B's changes. Only at this point will the D&B data be accepted into the CCR record. This process can take up to 2 business days for D&B to send modified data to CCR, and that time frame may be longer if data is sent from abroad.

b. CCR EIN/TIN Validation. To complete your CCR registration and qualify as a vendor eligible to bid for federal government contracts or apply for federal grants, the EIN/TIN and Employer/Taxpayer Name combination you provide in the IRS Consent Form must match exactly to the EIN/TIN and Employer/Taxpayer Name used in federal tax matters. It will take one to two business days to validate new and updated records prior to becoming active in CCR. Please be sure that the data items provided to D&B match information provided to the IRS. If the registration in D&B and the CCR does not match the IRS information, an error message will result. Until the discrepancies have been resolved, your registration will not be completed. HUD recommends that applicants carefully review their D&B and CCR registration information for accuracy immediately upon publication of this notice. If you have questions about your EIN/TIN, call (800) 829-4933.

c. Detailed Steps to Register with CCR. The following is a step-by-step guide to help you register with CCR. As noted, additional assistance is available online at http://www.ccr.gov.

(1) Go to http://ccr.gov/. Once on the site, on the left side of the screen, click “Start New Registration.” At the “Start a New Registration” screen, of the three choices, please select “I am not a U.S. Federal Government entity.” Click “Continue.”

Note: CCR registration is NOT required for individuals. Applicants should be aware that HUD does not directly fund individuals through its NOFA process.

(2) The next screen provides review items that must be completed before continuing in CCR. After you review the information and all items have been completed, click “Continue with Registration.”

(3) To begin your registration with CCR, enter your DUNS number and click “Next.”

(4) At the next screen, “New Registration,” you will be prompted to enter your DUNS number. Then click “Next.” The next “New Registration” screen displays your DUNS number. You will be prompted to enter your organization information, e.g., name, address, etc. If the information you inputted does not match that contained in the D&B record for the DUNS number provided, the system will state: “Try again by correcting your input below” OR “Contact D&B to make a change to your D&B DUNS record.”

(5) The next page of “New Registration” is “Verify Your Results with D&B”. Here you will be asked, “Is this information correct?” After ensuring the accuracy of the information, click on “Accept/Continue” or “Cancel.”

(6) If you “Accept/Continue,” your confirmation number will be displayed. This is a temporary number that allows you to save your registration as a work in progress. Print this page. Your temporary number along with your DUNS number will let you access CCR to complete your registration at a later date.

(7) Continuing your registration from the Confirmation page, click “Continue.”

(8) “How to Complete your Registration” is the next page. Once you have reviewed the information and it is correct, click “continue.”

(9) The “General Information” page is the next screen. On this page you will need to complete all the required information.

(10) Creating a Marketing Partner ID Number (MPIN). The final step in creating your Trading Partner Profile (TTP) requires that you create a Marketing Partner ID Number (MPIN). The MPIN is a self-defined nine character password that the eBusiness POC will need to access Grants.gov to authorize an AOR to be able to submit a grant application.

(11) Registration Notification. If your registration was submitted successfully, you will receive two letters via the U.S. Mail or e-mail. The first welcomes you to CCR and includes a copy of your registration. The second contains your confidential Trading Partner Identification Number (TPIN). Receipt of your TPIN confirms that you are successfully registered in CCR and serves as your confidential password to change CCR information.

d. Current Registrants without an MPIN. If you currently have an active registration in CCR and you do not have an MPIN, you will need to do the following:

(1) Access the CCR Web site at http://www.ccr.gov. At the left margin, click on “Update or Renew Registration.”

(2) Select “I am not a U.S. Federal Government entity. Click “Continue.”

(3) Enter you DUNS number and TPIN.

(4) On the next page click on the link “Points of Contact.” Complete all fields for the eBusiness POC and the alternate eBusiness POC. Scroll down to the bottom of the Points of Contact page, and create your own MPIN. Once completed, click on the “Validate/Save” button.

3. Step Three: Register with the Credential Provider. To safeguard the security of your electronic information, Grants.gov utilizes a Credential Provider to determine with a degree of assurance that someone is really who he or she claims to be. An assigned AOR must register with the Credential Provider to create his/her user name and password, which are needed to submit an application with an electronic signature via Grants.gov. To register with a credential provider, the AOR must have the applicant organization's DUNS number. Your organization will need to have your organization's DUNS number available and be registered with the CCR to complete this process.

Since August 30, 2007, organizations have three federally approved credential providers available from which to choose their authentication services—the Agriculture Department; the Office of Personnel Management's Employee Express; and Operational Research Consultants (ORC), Inc., which also provided authentication services prior to August 30, 2007. Users who already hold a Grants.gov user name and password through ORC will not experience much change. New Users will be able to choose from any of the three credential providers available.

• To register with a credential Provider go to http://apply07.grants.gov/apply/ORCRegister. Once you have accessed the site, scroll down the page and enter the DUNS number, and click on “Register”.

• At the next screen scroll down and select “Get Your Credentials”.

• On the “eAuthentication User Information” screen, complete and submit all information.

• On the next screen you need to confirm your information and create your own USER ID and PASSWORD. Then click “Submit.” If all the information has been entered correctly, you will receive a notice of Registration Success.

Note: Your registration is not complete until Steps Four and Five below are completed.

4. Step Four: Register with Grants.gov. After completing Step 3, creating a User Name and Password with the credential provider, the person(s) named by the applicant organization to submit an application for funding on behalf of the organization, must register with Grants.gov. After the AOR registers their User ID and Password with Grants.gov, the organization's eBusiness POC will be sent an e-mail indicating that someone has requested authority to submit an application for the organization and has registered as an AOR. Applicants can register with Grants.gov at https://apply07.grants.gov/apply/GrantsgovRegister.

5. Step Five: Granting Approval of an AOR to Submit an Application on Behalf of the Organization. The eBusiness POC must log into the Grants.gov Web site and give the registered AOR approval to submit an application to Grants.gov. By authorizing the AOR to submit on behalf of the organization, the organization is stating that the person has the legal authority to submit the electronic application and can make a legally binding commitment for the organization.

a. The eBusiness POC must approve the designated AOR(s). If the eBusiness POC does not grant authorization, Grants.gov will not accept the application. The eBusiness POC can designate the AOR to submit applications on behalf of the organization at https://apply07.grants.gov/apply/AorMgrGetID. The registration is complete when an AOR has been approved to submit an application on behalf of the applicant organization by the eBusiness POC.

HUD urges applicants to check with their eBusiness POC to make sure that they have been authorized to make a legally binding commitment for the applicant organization when submitting the application to Grants.gov. This is particularly important if during the CCR registration renewal process the eBusiness Point of Contact for the applicant organization has been changed. The new eBusiness Point of Contact will have to grant authorization to all AORs. You can search the CCR registration for the eBusiness Point of Contact by going to https://www.bpn.gov/CCRSearch/Search.aspx.

b. AORs can track their AOR status at any time on Grants.gov by going to the Applicant home page at Grants.gov. In “Quick Links” log in as an applicant and enter your User Name and Password. If you have not been granted AOR status by the eBusiness POC, you should contact the eBusiness POC directly.

II. Instructions on How To Download an Application Package and Application Instructions at Grants.gov

Applicants should sign up to be notified when HUD places a funding opportunity on Grants.gov or does a technical correction or an amendment to an opportunity on Grants.gov by signing up for the e-mail notification service at http://www.grants.gov/applicants/e-mail_subscription.jsp. HUD recommends that all applicants sign up for this notification service.

Applicants that have not signed up for the notification service can search for a funding opportunity on Grants.gov by going to http://www.grants.gov/applicants/find_grant_opportunities.jsp. On this page you can do a basic search, browse by category, or browse by agency. If you are interested in HUD Grants, click on browse by agency and then scroll down the page until you see U.S. Department of Housing and Urban Development on the right column. When you click on the HUD agency name, you will come to a page with all the funding opportunities that are posted by HUD at that point in time. When you click on an opportunity, you will come to a page that provides a synopsis of the opportunity and which also identifies the Catalog of Federal Domestic Assistance (CFDA) Number for the Program, the Funding Opportunity Number and further down the page, a link to the full announcement. To download the application and instructions, follow the directions below, but first you must be sure you have the compatible Adobe Reader installed. HUD's 2008 applications will be using Adobe forms. To open and complete the application package you must have installed Adobe Reader 8.1.2 or higher. Adobe Reader 8.1.2 is available free and can be found on the Grants.gov Web site at http://www.grants.gov/help/download_software.jsp. You will not be able to complete or submit your application if you fail to download the free Adobe Reader 8.1.2 (or higher version available on Grants.gov). Please make anyone that will be working on the Adobe forms portion of the application aware that they must download the new 8.1.2 Adobe Reader. This does not impact forms that you may save as PDF forms to your application as attachments. Adobe Reader 8.1.2 is compatible with Adobe Professional versions. However, for the newest reader to work, you must be sure that your Adobe default setting for the Reader is set to the Adobe 8.1.2 version. For information on how to set your default settings, go to https://grants.gov/help/general_faqs.jsp#19. Follow Option #2, labeled “Set Your Computers Default to Use the Correct Version of Adobe Reader for the opening of all files with a PDF extension”.

Applicants are urged to review the Adobe Reader 8.1.2 information and get the new reader installed on their computer when this Notice is published so that they are prepared for the FY 2008 NOFAs when they are published in the Spring of 2008.

A. Application Package and Application Instructions Download. Once you have installed Adobe Reader 8.1.2 you can download the Application Package and instructions. To download the application and instructions go to https://apply07.grants.gov/apply/forms_apps_idx.html and enter the CFDA Number, Funding Opportunity Number, or Funding Competition ID for the opportunity you are interested in; do not enter more than one criterion. If you enter more than one criterion, you will get a message that states the opportunity cannot be found. Only enter one of the above numbers.

On the next page “Selected Grant Applications for Download,” you will find the funding opportunity link to Download Instructions and Application. Additional resource information is also on this page, including a reminder to sign up for e-mail notification for changes to funding opportunity, a download link to the Adobe Reader as well as a Help link.

Click on the Download link to get to the Download page. Then proceed to download the instructions and the application. If you get an error message in opening the downloaded application, you have not properly installed the Adobe Reader 8.1.2. Contact your IT help desk or the Grants.gov support desk at Support@Grants.gov by e-mail or by calling 800-518-GRANTS.

B. Download Instructions Link. The instructions download is a compressed file (ZIP) containing the General Section and Program Sections for the funding opportunity. It also contains forms and copies of the General Section and Program Section of HUD's NOFAs, information that you will need to submit a complete application to Grants.gov for HUD funding consideration. For each program, NOFA provides a checklist which you can use to ensure that you have completed all elements of your application. HUD's General Section provides helpful information and tips to ensure that you complete your application correctly and what to do to ensure that all your information is attached to the application. When attaching files to your application, HUD suggests that you open each attachment file and scroll down to make sure it is the complete file that you want to submit.

C. Compatibility with Apple Macintosh computers, Microsoft Windows Vista operating system, and Microsoft Office 2007. HUD moved to the Adobe forms application in FY 2008 because the forms are compatible with the broadest array of computer hardware and software technology currently in use by HUD's applicant/grantee community. For information on Adobe compatibility go to http://www.grants.gov/help/download_software.jsp. Applicants can test if they have the software installed properly by going to http://www.grants.gov/applicants/AdobeVersioningTestOnly.jsp.

Questions regarding the installation of Adobe Reader 8.1.2 should be directed to the Grants.gov help desk during operating hours Monday-Friday (except Federal holidays) from 7 a.m. to 9 p.m. at 800-518-GRANTS.

Dated: February 28, 2008.
Keith A. Nelson,
Assistant Secretary for Administration.

[FR Doc. E8-4724 Filed 3-7-08; 8:45 am]

BILLING CODE 4210-67-P